DEPARTMENT OF THE INTERIOR

Fish and Wildlife Service

Draft Multiple Habitat Conservation Program Plan and Draft Environmental Impact Statement/Environmental Impact Report for Northwestern San Diego County

AGENCY: Fish and Wildlife Service, Interior.

ACTION: Notice.

SUMMARY: In anticipation of receiving an application for an incidental take permit for the Multiple Habitat Conservation Program (MHCP) pursuant to section 10 (a)(1)(B) of the Federal Endangered Species Act of 1973, as amended, the U.S. Fish and Wildlife Service (Service) is requesting public comment on all four volumes of the draft MHCP Plan and a draft Environmental Impact Statement/Environmental Impact Report (EIS/EIR) prepared jointly by the Service and San Diego Association of Governments.

The draft MHCP Plan is intended to inform the public of our proposed action to provide a comprehensive multiple-jurisdictional planning program designed to create, manage, and monitor an ecosystem preserve in northwestern San Diego County, California. Local governments within this area have a need for an incidental take permit from the Service to accommodate lawful development projects outside of the preserve system and to accommodate monitoring and maintenance projects within the preserve system that are associated with the MHCP. Our issuance of such a permit is a Federal action that requires documentation under the National Environmental Policy Act.

The analysis provided in the draft EIS/EIR is intended to inform the public of our proposed action and alternatives; address public comments received during the scoping period; disclose the direct, indirect, and cumulative environmental effects of the proposed action and each of the alternatives; and indicate any irreversible commitment of resources that would result from implementation of the proposed action.

DATES: We must receive your written comments on or before April 29, 2002.

ADDRESSES: Send comments to Mr. Jim Bartel, Field Supervisor, U.S. Fish and Wildlife Service, 2730 Loker Avenue West, Carlsbad, California 92008. You also may submit comments by facsimile to (760) 431-9618.

FOR FURTHER INFORMATION CONTACT: Ms. Lee Ann Carranza, Fish and Wildlife Supervisory Biologist, at the above address; telephone (760) 431-9440.

SUPPLEMENTARY INFORMATION:

Availability of Documents

You may request copies of the documents by contacting the office above. You may view the documents, by appointment, during normal business hours (8 a.m. to 5 p.m.), Monday through Friday at the Carlsbad Fish and Wildlife Office (see ADDRESSES). Copies are also available for viewing at the office of the San Diego Association of Governments, 401 B Street, Suite 800, San Diego, California; and on the world wide web at http://www.sandag.org.

Background

Section 9 of the Act and Federal regulation prohibit the “take” of fish and wildlife species listed as endangered or threatened. Take of listed fish or wildlife is defined under the Act to include kill, harm, or harass. Harm includes significant habitat modification or degradation that actually kills or injures listed wildlife by significantly impairing essential behavioral patterns, including breeding, feeding, and sheltering (50 CFR 17.3(c). Under limited circumstances, the Service may issue permits to authorize incidental take; i.e. take that is incidental to, and not the purpose of, otherwise lawful activity. Regulations governing incidental take permits for threatened and endangered species are found in 50 CFR 17.32 and 17.22, respectively.

The MHCP is intended to protect viable populations of native plant and animal species and their habitats in perpetuity through the creation of a preserve system, while accommodating continued economic development and quality of life for residents of northwestern San Diego County. The MHCP is one of several large, multiple-jurisdictional habitat planning efforts in San Diego County, each of which constitutes a “subregional” plan under the State of California's Natural Community Conservation Planning (NCCP) Act of 1991. The MHCP encompasses 175 square miles comprised of the following seven incorporated cities: Carlsbad, Encinitas, Escondido, Oceanside, San Marcos, Solana Beach, and Vista.

All four volumes of the MHCP Plan and a draft EIS/EIR prepared jointly by the Service and San Diego Association of Governments are being made available for a 120-day public comment period. The MHCP is described in the Public Review Draft MHCP Plan Volume 1 (November 2000). The scientific methods used to prepare the MHCP are provided in the Public Review Draft MHCP Plan Volume II (November 2000). Volume III of the Public Review Draft MHCP Plan is comprised of five draft Subarea Plans for the cities of Carlsbad, Encinitas, Escondido, Oceanside and San Marcos; these subarea plans are analyzed in the draft EIS/EIR. Volume IV of the Public Review Draft MHCP Plan describes the biological monitoring program associated with managing the MHCP preserve system to ensure that all of the species covered by the MHCP will survive into perpetuity.

As described in Volumes I and II of the Public Review Draft MHCP Plan (November 2000) and the draft EIS/EIR, the MHCP would create a preserve system that protects, manages, and monitors 66 percent of coastal sage scrub, 66 percent of chaparral, 80 percent of coastal sage/chaparral mix, and 100 percent of riparian and estuarine habitats in perpetuity. A major component of the preserve is the conservation of 400 to 500 acres of contiguous coastal sage scrub centered around the cities of Carlsbad, Encinitas, and the extreme southwest portion of San Marcos, which supports 16 to 23 pairs of the federally threatened coastal California gnatcatcher [Polioptila californica californica]. In addition, 338 acres of coastal sage scrub would be restored in key locations within the preserve area. Overall, 19,871 acres (66 percent) of the natural habitats found in the total MHCP study area would be conserved. As a result, coverage for 60 different listed and non-listed species is being requested under the MHCP.

The MHCP is designed to be implemented through individual Subarea Plans prepared by participating cities. Five of the seven cities (Carlsbad, Encinitas, Escondido, Oceanside, and San Marcos) within the MHCP planning area have prepared draft Subarea Plans which describe the specific mechanisms their respective city will use to implement the MHCP. The City of Vista has not completed their plan; when completed it will require a separate environmental analysis. The City of Solana Beach does not need to prepare a Subarea Plan at this time since they do not anticipate impacting any of the species or habitats covered in the MHCP.

The EIS/EIR considers three alternatives in addition to the preferred alternative/proposed project described above: a reduced preservation alternative, an increased preservation alternative, and a no action alternative.

Under the reduced preservation alternative, the preserve system would be similar to the proposed project, however, the following conservation actions would not occur: preservation of the 400 to 500 acres of contiguous coastal sage scrub in the coastal California gnatcatcher core area and the restoration of 338 acres of coastal sage scrub habitat throughout the MHCP planning area. Overall, 19,371 acres (65 percent) of the habitat in the total MHCP study area would be conserved under this alternative.

Under the increased preservation alternative, all large contiguous areas of habitat, all areas supporting major and critical species populations or habitat areas, and all important functional linkages and movement corridors between them would be conserved. Conservation levels include 89 percent coastal sage scrub, 93 percent chaparral, 95 percent coastal sage/chaparral mix, and 100 percent riparian and estuarine habitats. Overall, 25,031 acres (84 percent) of the habitat in the total MHCP study area would be conserved under this alternative.

Under the no project alternative, only listed species and habitat occupied by such listed species would receive protection. It was estimated that conservation levels would include 19 percent coastal sage scrub, 31 percent chaparral, and 18 percent coastal sage/chaparral mix. Overall, 8,969 acres (30 percent) of natural habitats in the MHCP study area would be conserved under this alternative.

Once the MHCP program and draft documents are finalized and the participating cities are ready to implement the program and create the preserve system, the participating cities will need to apply for incidental take permits from the Service and California Department of Fish and Game to accommodate lawful development projects outside of the preserve system and monitoring and maintenance projects within the preserve system. At this time, the Service will publish in the Federal Register separate notices announcing the receipt of an Incidental Take Permit Application and draft Implementing Agreement for each city when they submit applications. The subregional MHCP and associated Subarea Plans for each city are designed to serve as a multiple species Habitat Conservation Plan (HCP) pursuant to section 10 (a)(1)(B) of the federal Endangered Species Act of 1973, as amended and to meet the requirements of section 2800 of the California Endangered Species Act and the NCCP Act.

The Service invites the public to comment on the draft MHCP Plan and draft EIS/EIR during a 120-day comment period. All comments received, including names and addresses, will become part of the administrative record and may be made available to the public. This notice is provided pursuant to section 10(a) of the Endangered Species Act and regulations for implementing the National Environmental Policy Act of 1969 (40 CFR 1506.6).

Dated: December 11, 2001.
John Engbring,
Acting Deputy Manager, Region 1, California/Nevada Operations Office, Sacramento, California.

[FR Doc. 01-31199 Filed 12-27-01; 8:45 am]

BILLING CODE 4310-55-P